DEPARTMENT OF HOMELAND SECURITY

Coast Guard

[USCG-2015-0693]

National Maritime Security Advisory Committee; Meeting

AGENCY: Coast Guard, DHS.

ACTION: Notice of Federal Advisory Committee Meeting.

SUMMARY: The National Maritime Security Advisory Committee will meet in Washington, DC to discuss various issues relating to national maritime security. This meeting will be open to the public.

DATES: The Committee will meet on Tuesday, September 29, 2015, from 1:00 p.m. to 4:30 p.m. and Wednesday, September 30, 2015, from 9:00 a.m. to 12:00 p.m. This meeting may close early if all business is finished. All written public material and requests to make oral presentations should reach the Coast Guard on or before September 23, 2015.

ADDRESSES: The meeting will be held at U.S. Department of Transportation Headquarters (Oklahoma Room), 1200 New Jersey Avenue SE., Washington, DC, 20590. Due to security, members of the public wishing to attend must register with Mr. Ryan Owens, Alternate Designated Federal Officer of the National Maritime Security Advisory Committee, telephone 202-372-1108 or ryan.f.owens@uscg.mil no later than September 23, 2015. Additionally, all visitors to the Department of Transportation Headquarters must provide identification in the form of Government Issue picture identification card for access to the facility. Please arrive at least 30 minutes before the planned start of the meeting in order to pass through security.

This meeting will be broadcasted via a web enabled interactive online format and teleconference line. To participate via teleconference, dial 1-855-475-2447; the pass code to join is 764 990 20#. Additionally, if you would like to participate in this meeting via the online web format, please log onto https://share.dhs.gov/nmsac/ and follow the online instructions to register for this meeting.

For information on facilities or services for individuals with disabilities or to request special assistance at the meeting, contact the person listed in the FOR FURTHER INFORMATION CONTACT section as soon as possible.

To facilitate public participation, we are inviting public comment on the issues to be considered by the Committee as listed in the “Agenda” section below. Comments that the public wishes the members to see prior to the meeting should be submitted no later than September 23, 2015. Identify your comments by docket number [USCG-2015-0693] using one of the following methods:

• Federal eRulemaking Portal: http://www.regulations.gov. Follow the instructions for submitting comments.

• Mail: Docket Management Facility (M-30), U.S. Department of Transportation, West Building Ground Floor, Room W12-140, 1200 New Jersey Avenue SE., Washington, DC 20590-0001. We encourage use of electronic submissions because security screening may delay delivery of mail.

• Fax: (202) 493-2251.

• Hand Delivery: Same as mail address above, between 9:00 a.m. and 5:00 p.m., Monday through Friday, except Federal Holidays. The telephone number is 202-366-9329.

Instructions: All submissions received must include the words “Department of Homeland Security” and docket number [USCG-2015-0693]. All submissions received will be posted without alteration at www.regulations.gov, including any personal information provided. You may review a Privacy Act notice regarding our public dockets in the January 17, 2008 issue of the Federal Register (73 FR 3316).

Docket: For access to the docket to read documents or comments related to this Notice, go to http://www.regulations.gov, insert “USCG-2015-0693” in the “Search” box, and follow instructions on the Web site.

Public comments will be sought throughout the meeting by the Designated Federal Officer as specific issues are discussed by the committee. Additionally, public oral comment periods will be held during the meetings on September 29, 2015, from 4:00 p.m. to 4:15 p.m., and September 30, 2015, from 11:10 a.m. to 11:30 a.m. Speakers are requested to limit their comments to 3 minutes. Please note that the public comment period will end following the last call for comments. Contact the person listed in the FOR FURTHER INFORMATION CONTACT section below to register as a speaker.

FOR FURTHER INFORMATION CONTACT: Mr. Ryan Owens, Alternate Designated Federal Officer of the National Maritime Security Advisory Committee, 2703 Martin Luther King Jr. Avenue SE., Stop 7581, Washington, DC 20593-7581; telephone 202-372-1108 or email ryan.f.owens@uscg.mil. If you have any questions on viewing or submitting material to the docket, call Cheryl Collins, Program Manager, Docket Operations, telephone 202-366-9826 or 1-800-647-5527.

SUPPLEMENTARY INFORMATION: Notice of this meeting is given under the Federal Advisory Committee Act, Title 5, United States Code, Appendix. The National Maritime Security Advisory Committee operates under the authority of 46 U.S.C. 70112. The National Maritime Security Advisory Committee provides advice, consults with, and makes recommendations to the Secretary of Homeland Security, via the Commandant of the Coast Guard, on matters relating to national maritime security.

A copy of all meeting documentation will be available at https://homeport.uscg.mil/NMSAC by September 23, 2015. Alternatively, you may contact Ryan Owens as noted in the FOR FURTHER INFORMATION CONTACT section above.

Agenda of Meeting

Day 1

The committee will meet to review, discuss and formulate recommendations on the following issues:

(1) Coast Guard Cyber Security Strategy. The Coast Guard issued a Cyber Security Strategy on June 16, 2015. A copy of the strategy can be found at http://www.uscg.mil/seniorleadership/DOCS/cyber.pdf. The National Maritime Security Advisory Committee will meet to review and provide recommendations on this strategy.

(2) Transportation Worker Identification Credential; Next Generation Specifications. The committee will discuss and formulate recommendations on what the next generation of Transportation Worker Credentials and readers should incorporate.

(3) Coast Guard Industry Training Revisions. The Coast Guard operates a program that places members in positions within the maritime industry to better understand how it works. The Committee will be tasked with developing recommendations on how to enhance this program.

(4) Update on harmonization of rules with Canada and the Beyond the Border Initiative. The Committee will receive an update brief on these two programs.

(5) Public comment period.

Day 2

The Committee will meet to review, discuss and formulate recommendations on the following issues:

(1) Extremely Hazardous Cargo Strategy. The Committee will receive a brief and provide recommendations on the implementation of the Department of Homeland Security's Extremely Hazardous Cargo Strategy.

(2) Energy Renaissance. National Maritime Security Advisory Committee will receive a brief and provide recommendations on the increased movement of petrochemical cargos in the inland waterways.

(3) Election of New Chairman and Vice Chairman.

(4) Public comment period.

Dated: August 19, 2015.
V.B. Gifford,
Captain, U.S. Coast Guard, Director of Inspections and Compliance.

[FR Doc. 2015-20953 Filed 8-24-15; 8:45 am]

BILLING CODE 9110-04-P